DEPARTMENT OF AGRICULTURE

Agricultural Research Service

Notice of Intent To Grant Exclusive License

AGENCY: Agricultural Research Service, USDA.

ACTION: Notice of intent.

SUMMARY: Notice is hereby given that the U.S. Department of Agriculture, Agricultural Research Service, intends to grant to Circle One Global, Inc., of Cuthbert, Georgia, an exclusive license to the inventions disclosed in U.S. Patent No. 5,292,661 issued on March 8, 1994, entitled “Non-Aflatoxigenic Aspergillus Parasiticus Strains and Their Use in Controlling Aflatoxin Contamination;” U.S. Patent No. 6,027,724 issued on February 22, 2000, entitled “Biological Control of Aflatoxin and Cyclopiazonic Acid Contamination of Crops Using a Nontoxigenic Strain of Aspergillus Flavus;” and U.S. Patent Application Serial No. 09/621,466 filed on July 21, 2000, entitled “Biological Control Formulations Containing Spores of Non-Toxigenic Strains of Fungi for Toxin Control of Foods.” Notice of Availability for U.S. Patent No. 5,292,661 was published in the Federal Register on December 17, 1991, Notice of Availability for U.S. Patent No. 6,027,724 was published in the Federal Register on November 3, 1999, and Notice of Availability for U.S. Patent Application Serial No. 09/621,466 was published in the Federal Register on March 13, 2001.

DATES: Comments must be received on or before June 29, 2001.

ADDRESSES: Send comments to: USDA, ARS, Office of Technology Transfer, 5601 Sunnyside Avenue, Rm. 4-1158, Beltsville, Maryland 20705-5131.

FOR FURTHER INFORMATION CONTACT: June Blalock of the Office of Technology Transfer at the Beltsville address given above; telephone: 301-504-5989.

SUPPLEMENTARY INFORMATION: The Federal Government's patent rights in this invention are assigned to the United States of America, as represented by the Secretary of Agriculture. It is in the public interest to so license the U.S. Government's rights in this invention as Circle One Global, Inc., has submitted a complete and sufficient application for a license. The prospective exclusive license will be royalty-bearing and will comply with the terms and conditions of 35 U.S.C. 209 and 37 CFR 404.7. The prospective exclusive license may be granted unless, within sixty (60) days from the date of this published Notice, the Agricultural Research Service receives written evidence and argument which establishes that the grant of the license would not be consistent with the requirements of 35 U.S.C. 209 and 37 CFR 404.7.

Michael D. Ruff,
Assistant Administrator.

[FR Doc. 01-10603 Filed 4-27-01; 8:45 am]

BILLING CODE 3410-03-P